NUCLEAR REGULATORY COMMISSION

[Docket No. 50-320]

GPU Nuclear Corporation; Three Mile Island Nuclear Station, Unit 2; Environmental Assessment and Finding of No Significant Impact

The U.S. Nuclear Regulatory Commission (the Commission or NRC) is considering issuance of an amendment to Possession Only License No. DPR-73, issued to GPU Nuclear Corporation (GPU Nuclear or the licensee), for the Three Mile Island Nuclear Station, Unit 2 (TMI-2), located in Dauphin County, Pennsylvania.

Environmental Assessment

Identification of the Proposed Action

The proposed action would revise the Possession Only License No. DPR-73 and the Technical Specifications (TS) appended to Possession Only License No. DPR-73 for TMI-2. Specifically, the proposed action would amend the license to reflect the change in the licensee's name from GPU Nuclear Corporation to GPU Nuclear, Inc. The amendment would also make an editorial change to better describe TMI-2's use of site physical security, guard training and qualification, and safeguards contingency plans that are maintained by Three Mile Island, Unit 1, licensee AmerGen Energy Company, LLC. In addition, the amendment would make minor changes to Section 6.0 of the TSs to reflect TMI-2 organizational and administrative controls that will exist following the sale of the Oyster Creek Nuclear Generating Station (Oyster Creek) to AmerGen Energy Company, LLC.

The proposed action is in accordance with the licensee's application dated April 6, 2000, as supplemented by letters dated May 25 and July 18, 2000.

Need for the Proposed Action:

The proposed action is needed to revise the company name in the license to reflect the corporate name change that occurred on January 14, 1999, and to make administrative changes to reflect changes that will occur in the TMI-2 organization and administrative controls following the sale of Oyster Creek.

Environmental Impacts of the Proposed Action

The Commission has completed its evaluation of the proposed changes to the license and TS. According to the licensee, the name change will not impact the existing ownership of TMI-2. GPU Nuclear will maintain final decision making authority for TMI-2 licensed activities.

The proposed action will not significantly increase the probability or consequences of accidents, no changes are being made in the types of any effluents that may be released off site, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Programmatic Final Environmental Statement Related to Decontamination and Disposal of Radioactive Wastes Resulting from the March 28, 1979, Accident—Three Mile Island Nuclear Station, Unit 2, Supplement No. 3, issued in August 1989.

Agencies and Persons Contacted

In accordance with its stated policy, on July 27, 2000, the NRC staff consulted with the Pennsylvania State official, Stan Miangi of the Pennsylvania Department of Environmental Protection, regarding the environmental impact of the proposed action. The State official had no comments.

Finding of no Significant Impact

On the basis of the environmental assessment, the NRC concludes that the proposed action will not have a significant effect on the quality of the human environment. Accordingly, the NRC has determined not to prepare an environmental impact statement for the proposed action.

For further details with respect to the proposed action, see the licensee's letter dated April 6, 2000, as supplemented by letters dated May 25 and July 18, 2000, which are available for public inspection at the U.S. Nuclear Regulatory Commission's Public Document Room, The Gelman Building, 2120 L Street NW., Washington DC. Publically available records are accessible electronically from the ADAMS Public Library component on the NRC Web site, http://www.nrc.gov (the Electronic Reading Room).

Dated at Rockville, Maryland, this 3rd day of August 2000.
For the Nuclear Regulatory Commission.
Dino C. Scaletti,
Senior Project Manager, Project Directorate IV & Decommissioning, Division of Licensing Project Management, Office of Nuclear Reactor Regulation.

[FR Doc. 00-20106 Filed 8-8-00; 8:45 am]

BILLING CODE 7590-01-P